DEPARTMENT OF AGRICULTURE

Rural Housing Service

Announcement of Funding to Develop Essential Community Facilities in Rural Communities for Eligible Public Entities, Nonprofit Corporations, and Tribal Governments with Extreme High Unemployment and Severe Economic Depression

AGENCY: Rural Housing Service, USDA.

ACTION: Notice.

SUMMARY: The Rural Housing Service (RHS) announces the availability of $19 million in national competitive grant funds to be administered in accordance with this Notice, 7 U.S.C. 1926(a)(20), and the Community Facilities grant program (7 CFR part 3570, subpart B) to develop essential community facilities in rural communities with extreme high unemployment and severe economic depression.

DATES: Applications may be submitted at any time until funds are exhausted. (See Allocation of Funds and Selection Process.)

ADDRESSES: Entities wishing to apply for assistance are encouraged to contact their local USDA Rural Development office for guidance on the intake and processing of preapplications. A listing of Rural Development State offices, addresses, telephone numbers, and a person to contact follows:

Note: Telephone numbers listed are not toll-free.

Alabama State Office

Suite 601, Sterling Centre, 4121 Carmichael Road Montgomery, AL 36106-3683, 334-279-3400, James B. Harris

Alaska State Office

800 W. Evergreen, Suite 201, Palmer, AK 99645-6539, 907-761-7705, Dean Stewart

Arizona State Office

Phoenix Corporate Center, 3003 North Central Avenue, Suite 900, Phoenix, AZ 85012-2906, 602-280-8700, Leonard Gradillas

Arkansas State Office

700 W. Capitol Avenue, Room 3416 Little Rock, AR 72201-3225, 501-301-3200, Jesse G. Sharp

California State Office

430 G Street, #4169, Davis, CA 95616-4169, 530-792-5800, Janice Waddell

Colorado State Office

655 Parfet Street, Room E100, Lakewood, CO 80215, 303-236-2801, Leroy Cruz

Delaware State Office*

4607 S. DuPont Highway, P.O. Box 400, Camden, DE 19934-9998, 302-697-4300, James E. Waters

Florida State Office**

4440 N.W. 25th Place, P.O. Box 147010, Gainesville, FL 32614-7010, 352-338-3400, Glenn W. Walden

Georgia State Office

Stephens Federal Building, 355 E. Hancock Avenue, Athens, GA 30601-2768, 706-546-2162, Jerry Thomas

Hawaii State Office

Room 311, Federal Building, 154 Waianuenue Avenue, Hilo, HI 96720, 808-933-8380, Thao Khamoui

Idaho State Office

9173 W. Barnes Drive, Suite A1, Boise, ID 83709, 208-378-5600, Dan Fraser

Illinois State Office

2118 Westpark Court, Suite A, Champaign, IL 61821, 217-403-6200, Gerald Townsend

Indiana State Office

5975 Lakeside Boulevard, Indianapolis, IN 46278, 317-290-3100, Gregg Delp

Iowa State Office

873 Federal Building, 210 Walnut Street, Des Moines, IA 50309, 515-284-4663, Dorman A. Otte

Kansas State Office

1303 SW First American Place, Suite 100, Topeka, KS 66604-0440, 785-271-2700, Gary Smith

Kentucky State Office

Suite 200, 771 Corporate Drive, Lexington, KY 40503, 859-224-7300, Vernon C. Brown

Louisiana State Office

3727 Government Street, Alexandria, LA 71302, 318-473-7920, Danny Magee

Maine State Office

967 Illinois Avenue, Suite 4, P.O. Box 405, Bangor, ME 04402-0405, 207-990-9106, Alan Daigle

Massachusetts State Office***

451 West Street, Amherst, MA 01002, 413-253-4300, Daniel Beaudette

Michigan State Office

3001 Coolidge Road, Suite 200, East Lansing, MI 48823, 517-324-5100, Philip H. Wolak

Minnesota State Office

410 AgriBank Building, 375 Jackson Street, St. Paul, MN 55101-1853, 651-602-7800, James Maras

Mississippi State Office

Federal Building, Suite 831, 100 W. Capitol, Jackson, MS 39269, 601-965-4316 Darnella Smith-Murray

Missouri State Office

601 Business Loop 70 West, Parkade Center, Suite 235, Columbia, MO 65203, 573-876-0976, D. Clark Thomas

Montana State Office

Unit 1, Suite B, P.O. Box 850, 900 Technology Boulevard, Bozeman, MT 59715, 406-585-2580, Deborah Chorlton

Nebraska State Office

Federal Building, Room 152, 100 Centennial Mall N, Lincoln, NE 68508, 402-437-5551, Denise Brosius-Meeks

Nevada State Office

1390 South Curry Street, Carson City, NV 89703-9910, 775-887-1222, Mike E. Holm

New Jersey State Office

Tarnsfield Plaza, Suite 22, 790 WoodLane Road, Mt. Holly, NJ 08060, 609-265-3600, Michael P. Kelsey

New Mexico State Office

6200 Jefferson Street NE, Room 255, Albuquerque, NM 87109, 505-761-4950, Clyde F. Hudson,

New York State Office

The Galleries of Syracuse 441 S. Salina Street, Suite 357, Syracuse, NY, 13202-2541, 315-477-6400, Gail Giannotta

North Carolina State Office

4405 Bland Road, Suite 260, Raleigh, NC 27609, 919-873-2000, Phyllis Godbold

North Dakota State Office

Federal Building, Room 208, 220 East Rosser, P.O. Box 1737, Bismarck, ND, 58502-1737, 701-530-2037, Donald Warren

Ohio State Office

Federal Building, Room 507, 200 North High Street, Columbus, OH, 43215-2418, 614-255-2400, David Douglas

Oklahoma State Office

100 USDA, Suite 108, Stillwater, OK 74074-2654, 405-742-1000, Rock W. Davis

Oregon State Office,

101 SW Main, Suite 1410, Portland, OR 97204-3222, 503-414-3300, Jerry W. Sheridan

Pennsylvania State Office

One Credit Union Place, Suite 330, Harrisburg, PA 17110-2996, 717-237-2299, Gary Rothrock

Puerto Rico State Office

IBM Building, Suite 601, 654 Munos Rivera Avenue, Hato Rey, PR, 00918-6106, 787-766-5095, Pedro Gomez

South Carolina State Office

Strom Thurmond Federal Building, 835 Assembly Street, Room 1007, Columbia, SC 29102, 803-765-5163, Larry Floyd

South Dakota State Office

Federal Building, Room 210, 200 Fourth Street SW., Huron, SD 57350, 605-352-1100, Roger Hazuka

Tennessee State Office

Suite 300, 3322 West End Avenue, Nashville, TN 37203-1084, 615-783-1300, Keith Head

Texas State Office

Federal Building, Suite 102, 101 South Main, Temple, TX 76501, 254-742-9700, Eugene G. Pavlat

Utah State Office

Wallace F. Bennett Federal Building, 125 S. State Street, Rm. 4311, P.O. Box 11350, Salt Lake City, UT 84147-0350, 801-524-4320, Bonnie Carrig

Vermont State Office ****

City Center, 3rd Floor, 89 Main Street, Montpelier, VT 05602, 802-828-1600, Rhonda Shippee

Virginia State Office

Culpeper Building, Suite 238, 1606 Santa Rosa Road, Richmond, VA 23229, 804-287-1550, Carrie Schmidt

Washington State Office

1835 Black Lake Blvd. SW., Suite B, Olympia, WA 98512-5715, 360-704-7740, Sandi Boughton

West Virginia State Office

Federal Building, 75 High Street, Room 320, Morgantown, WV 26505-7500, 304-284-4860, Dianne Crysler

Wisconsin State Office

4949 Kirschling Court, Stevens Point, WI 54481, 715-345-7600, Mark Brodziski,

Wyoming State Office

100 East B, Federal Building, Room 1005, P.O. Box 820, Casper, WY 82602, 307-261-6300, Charles Huff

* The Delaware State Office also administers the Maryland program.

** The Florida State Office also administers the Virgin Island program.

*** The Massachusetts State Office also administers the Rhode Island and Connecticut programs.

**** The Vermont State Office also administers the New Hampshire program.

FOR FURTHER INFORMATION CONTACT: Joseph Ben-Israel, Community Programs, RHS, USDA, STOP 0787, 1400 Independence Ave. SW., Washington, DC 20250-0787, Telephone (202) 720-1490, Facsimile (202) 690-0471, E-mail: jbenisra@rdmail.rural.usda.gov.

SUPPLEMENTARY INFORMATION:

Paperwork Reduction Act

The reporting requirements contained in this notice have been approved by the Office of Management and Budget (OMB) and have been assigned OMB control number 0575-0173 in accordance with the Paperwork Reduction Act (44 U.S.C. 3501 et seq.).

Authorizing Legislation and Regulations

This program is authorized under section 306(a) of the Consolidated Farm and Rural Development Act. RHS will administer these funds using the same regulations that govern its Community Facilities grant program. Program administration, eligibility, processing, and servicing requirements that govern the Community Facilities grant program may be found under 7 CFR part 3570, subpart B.

Background

Under the FY 2002 appropriation, Congress appropriated $19 million for a Community Facilities grant program for rural communities with extreme unemployment and severe economic depression, hereafter referred to as the Economic Impact Initiative. These funds are in addition to the Community Facilities grant program's regular allocation of competitive grant funds. The Community Facilities grant program, authorized by Congress in 1996, is used in conjunction with the existing direct and guaranteed loan programs for the development of essential community facilities for public use in rural areas. Funding is intended to complement rather than compete with other credit sources. Grants are made available to public entities, such as municipalities, counties, and special-service districts, as well as to eligible nonprofit corporations and tribal governments. Grants are targeted to communities with the smallest populations and lowest incomes. Communities with lower population and income levels receive a greater percentage of the Federal contribution, between 15 to 75 percent of the cost of developing the facility.

Additional Eligibility Requirements

In addition to those requirements contained in 7 CFR part 3570, subpart B, the essential community facility must be located in a rural community where the “not employed rate” is greater than 19.5 percent as mandated by 7 U.S.C. 1926(a)(20)(B).

Definition of Not Employed Rate

This is the percentage of individuals over the age of 18 who reside within the community and who are ready, willing, and able to be employed but are unable to find employment, as determined by the Department of Labor of the State in which the community is located.

Applicant Eligibility for Local Dial-Up Internet Access

The Agriculture, Rural Development, Food and Drug Administration, and Related Agencies Appropriations Act, 2002 expanded eligibility for the Economic Impact Initiative to provide local dial-up Internet access or broadband service where it does not currently exist. Under this provision, the Agency may make grants to State agencies for use by regulatory commissions in States with rural communities without local dial-up Internet access or local broadband service. The State Agencies will establish a competitive, technologically neutral grant program to telecommunications carriers or cable operators that establish common carrier facilities and services that, in the commission's determination, will result in the long-term availability of affordable broadband services that are used for high speed Internet access for these communities.

Allocation of Funds

All Economic Impact Initiative funds will remain in the National Office reserve for funding consideration for FY 2002. Project selections will be on a national competitive basis. There will be two windows of opportunity to compete for grant funding. It is anticipated, the first round of funding selections will be made after May 10, 2002. The second round will be held after August 23, 2002.

Selection Process

Once a determination has been made by the State Office that an applicant is eligible, the preapplication is evaluated competitively and points awarded as specified in the project selection priorities contained in 7 CFR part 3570, subpart B. The State Director or designee will then forward the request to the National Office to compete for funding consideration. Projects will then be rated, ranked, and selections made in order of priority. Each proposal will be judged on its own merit. Unless withdrawn by the applicant, projects not selected for funding consideration for the first round of funding selections will remain eligible to compete for the next round of funding.

To be considered for the first window, all preapplications along with supporting documentation satisfactory to the Agency must be received by the Rural Development State or designated field office by close of business May 3, 2002. To be considered for the second window, all preapplications must be received by the Rural Development State or designated field office by close of business August 16, 2002.

Notice of Invitation To Submit Complete Application

All preapplications selected for funding consideration will be notified by the State or field office by issuing Form AD-622, “Notice of Preapplication Review Action.” At that time, the proposed recipient will be invited to submit a complete application, along with instructions related to the agreed upon award amount, and asked to schedule an application conference to discuss items needed for formal application and to further clarify issues related to the project.

Final Approval and Funding Process

Final approval is subject to the availability of funds; the submission by the applicant of a formal, complete application and related materials that meet the program requirements and responsibilities of the grantee (contained in 7 CFR part 3570, subpart B); the letter of conditions; and the grant agreement. Those preapplications that do not have sufficient priority necessary to receive funding consideration for FY 2002 will be notified, in writing, by the Agency's State or designated field office.

Dated: April 3, 2002.
Arthur A. Garcia,
Administrator, Rural Housing Service.

[FR Doc. 02-8527 Filed 4-8-02; 8:45 am]

BILLING CODE 3410-XV-P